FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 017480N

Name: ANG Bilis Bilis Air Cargo, Inc.-U.S.A. dba Abacus Freight Forwarders

Address: 5350 Stohm Avenue, Suite 15, North Hollywood, CA 91601

Date Revoked: July 20, 2004.

Reason: Surrendered license voluntarily.

License Number: 016256N

Name: Exim Services, Inc.

Address: 13952 Bora Bora Way, F-314, Marina Del Rey, CA 90292

Date Revoked: July 28, 2004.

Reason: Failed to maintain a valid bond.

License Number: 004182F

Name: Foreign Cargo International, Inc.

Address: 7200 NW 84th Avenue, Miami, FL 33166

Date Revoked: July 26, 2004.

Reason: Failed to maintain a valid bond.

License Number: 004137N

Name: H.W. Robinson & Co., Inc.

Address: One Cross Island Plaza, Suite 119, Rosedale, NY 11422

Date Revoked: August 6, 2004.

Reason: Surrendered license voluntarily.

License Number: 017782F

Name: Hayek Services, Inc.

Address: 5513 NW 72nd Avenue, Miami, FL 33166

Date Revoked: July 28, 2004.

Reason: Failed to maintain a valid bond.

License Number: 018516F

Name: K.E.I. Enterprises dba KEI Logix

Address: 249 E. Redondo Beach, Gardena, CA 90248

Date Revoked: August 4, 2004.

Reason: Failed to maintain a valid bond.

License Number: 016707N

Name: KS Logix, Inc. dba U.N.I. International Co.

Address: 675 W. Victoria Street, Compton, CA 90220

Date Revoked: July 28, 2004.

Reason: Failed to maintain a valid bond.

License Number: 018343N

Name: Louisiana Forwarder LLC.

Address: 664 Eight Street, Slidell, LA 70458

Date Revoked: July 9, 2004.

Reason: Surrendered license voluntarily.

License Number: 001727F

Name: Lysan Forwarding Company, Inc.

Address: 5220 NW 72nd Avenue, Bay 34, Miami, FL 33166

Date Revoked: August 4, 2004.

Reason: Failed to maintain a valid bond.

License Number: 015682N

Name: S/J Americas Service, LLC dba Smith & Johnson

Address: 12707 Wood Forest Blvd., Houston, TX 77015

Date Revoked: August 7, 2004.

Reason: Failed to maintain a valid bond.

License Number: 016949N

Name: Supply Chain Services, LLC

Address: 847 West Avenue, Building 10, Rochester, NY 14611

Date Revoked: August 2, 2004.

Reason: Surrendered license voluntarily.

Ronald D. Murphy,
Deputy Director, Bureau of Consumer Complaints and Licensing.

[FR Doc. 04-19471 Filed 8-24-04; 8:45 am]

BILLING CODE 6730-01-P